DEPARTMENT OF THE TREASURY

Internal Revenue Service

Open Meeting of the Area 3 Taxpayer Advocacy Panel (Including the States of Florida, Georgia, Alabama, Mississippi, Louisiana, Arkansas and Puerto Rico)

AGENCY: Internal Revenue Service (IRS), Treasury.

ACTION: Notice.

SUMMARY: An open meeting of the Area 3 Taxpayer Advocacy Panel will be conducted in Atlanta, GA. The Taxpayer Advocacy Panel is soliciting public comments, ideas, and suggestions on improving customer service at the Internal Revenue Service.

DATES: The meeting will be held Thursday, May 11, Friday, May 12, and Saturday, May 13, 2006.

FOR FURTHER INFORMATION CONTACT: Sallie Chavez at 1-888-912-1227 (toll-free), or 954-423-7979 (non toll-free).

SUPPLEMENTARY INFORMATION: Notice is hereby given pursuant to section 10(a)(2) of the Federal Advisory Committee Act, 5 U.S.C. App. (1988) that an open meeting of the Area 3 Taxpayer Advocacy Panel will be held Thursday, May 11, 2006, from 1 p.m. to 5 p.m., Friday, May 12, 2006, from 8 a.m. to 5 p.m. and Saturday, May 13, 2006, from 8 a.m. to 12 p.m. e.t. in the Marriot Midtown Suites, 35 14th Street, Atlanta, GA 30309. For information or to confirm attendance, notification of intent to attend the meeting must be made with Sallie Chavez. Mrs. Chavez may be reached at 1-888-912-1227 or 954-423-7979 or write Sallie Chavez, 1000 South Pine Island Rd., Suite 340, Plantation, FL 33324, or post comments to the Web site: http://www.improveirs.org.

The agenda will include: Various IRS issues.

Dated: April 10, 2006.
John Fay,
Acting Director, Taxpayer Advocacy Panel.

[FR Doc. E6-5612 Filed 4-14-06; 8:45 am]

BILLING CODE 4830-01-P